FEDERAL COMMUNICATIONS COMMISSION

Public Information Collection(s) Requirement Submitted to OMB for Emergency Review and Approval

June 19, 2006.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 28, 2006. If you anticipate that you will be submitting comments, but find it difficult to do so within the period of time allowed by this notice, you should advise the contacts listed below as soon as possible.

ADDRESSES: Direct all PRA comments to Kristy L. LaLonde, Office of Management and Budget, Room 10234 NEOB, Washington, DC 20503, (202) 395-3087, or via fax at 202-395-5167 or via Internet at Kristy_L._LaLonde@omb.eop.gov and to Judith B. Herman, Federal Communications Commission, Room 1-C804, 445 12th Street, SW., Washington, DC 20554 or an e-mail to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION:

The Commission is requesting emergency OMB processing of these information collections and has requested OMB approval by July 3, 2006.

OMB Control Number: 3060-XXXX.

Title: Interim Procedures for Filing Applications Seeking Approval for Designated Entity Reportable Eligibility Events and Annual Reports.

Form Nos.: FCC Forms 609-T and 611-T.

Type of Review: New collection.

Respondents: Business or other for-profit, not-for-profit institutions, state, local and tribal government.

Number of Respondents: 1,000 respondents; 2,500 responses.

Estimated Time Per Response: .50-6 hours.

Frequency of Response: On occasion and annual reporting requirements.

Total Annual Burden: 6,625 hours.

Total Annual Cost: $1,358,750.

Privacy Act Impact Assessment: N/A.

Needs and Uses: The Commission is seeking emergency processing of these information collections by July 3, 2006.

On April 25, 2006, the Commission adopted and released a Second Report and Order and Second Further Notice of Proposed Rulemaking in FCC 06-52, WT Docket No. 05-211 which modified the Commission's rules regarding the collection of information regarding eligibility for designated entity benefits pursuant to 47 CFR sections 1.2110(n) and 1.2114. The Second Report and Order specifically required licensees that have designated entity benefits to: (1) submit annual report to the Commission on new FCC Form 611-T; and (2) report certain agreements and arrangements entered into by the designated entity licensee, called “reportable eligibility events” that may affect a licensee's eligibility for designated entity benefits and are reported on new FCC Form 609-T.

On June 2, 2006, the Commission, on its own motion, released an Order on Reconsideration of the Second Report and Order in FCC 06-78, WT Docket No. 05-211 which reconsidered and re-clarified its newly-adopted rules, including those resulting in the information collections that are subject of this emergency request. A copy of the entire OMB submission may be found under the ADDRESSES section of this Federal Register. Please look for the title of this collection in our PRA website because it has not been assigned an OMB Control Number yet.

OMB Control Number: 3060-0799.

Title: FCC Ownership Disclosure Information for the Wireless Telecommunications Services.

Form No.: FCC Forms 602.

Type of Review: Revision of a currently approved collection.

Respondents: Business or other for-profit, not-for-profit institutions, state, local and tribal government.

Number of Respondents: 500 respondents; 5,065 responses.

Estimated Time Per Response: .50-3 hours.

Frequency of Response: On occasion reporting requirement and third party disclosure requirement.

Total Annual Burden: 5,065 hours.

Total Annual Cost: $478,200.

Privacy Act Impact Assessment: N/A.

Needs and Uses: The Commission is seeking emergency processing of these information collections by July 3, 2006.

On April 25, 2006, the Commission adopted and released a Second Report and Order and Second Further Notice of Proposed Rulemaking in FCC 06-52, WT Docket No. 05-211. This rulemaking will become effective thirty days after publication in the Federal Register. The Commission is now revising FCC Form 602 instructions to require that designated entities have updated and complete FCC Form 602's on file with the Commission whenever a designated entity files an application for approval of a reportable eligibility event. All designated entities are required to have an FCC Form 602 on file, so a designated entity applying for approval of a reportable eligibility event will have to check its Form 602 to ensure that it is complete and, if it is not complete, file an updated version. This emergency request is to implement interim procedures to allow the Commission to collect information regarding the ownership of a designated entity when an application is filed seeking approval of a reportable eligibility event will not change the questions on the Form or the substance of the information collected in any way. We note that, if the information on the designated entity's FCC Form 602 is complete and accurate when an application seeking approval for a reportable eligibility event is filed, the designated entity will not have to file a new or updated FCC Form 602. A copy of the entire OMB submission may be found under the ADDRESSES section of this Federal Register. Please look for the OMB control number (3060-0799) in our PRA Web site.

Federal Communications Commission.
Marlene H. Dortch,
Secretary.

[FR Doc. E6-10185 Filed 6-27-06; 8:45 am]

BILLING CODE 6712-01-P